Title 3—

The President

Proclamation 10258 of September 16, 2021

Constitution Day and Citizenship Day, and Constitution Week, 2021

By the President of the United States of America

A Proclamation

For 234 years, America's Constitution has guided our growth, shaped our progress, and defined us as a Nation of sacred laws and fundamental values. When our democracy is tested, we draw strength from the Constitution to see us through. When we look ahead in our uniquely American way—restless, bold, and optimistic—our Constitution is the bedrock we build upon to make our Nation more equal, more just, and more prosperous for all our people.

American democracy requires our constant care, vigilance, and full participation to determine the course and conscience of our Union. As President, I swore an oath to preserve, protect, and defend the Constitution, and I will continue to work tirelessly to ensure that we uphold and strengthen this remarkable system of self-government for future generations ready to put their own shoulders to the wheel.

The Framers of the Constitution understood the extraordinary promise of a democratic system of government—a Nation that could be made a “more perfect Union” by each passing generation to come. They laid out a set of basic principles and equipped the American people with all that was necessary to meet the changing needs and values of our country through the years.

For more than two centuries, women and men have struggled and strived to make good on the promise of our founding document and to expand the promise of America by amending our Constitution in accordance with our growth and progress as a Nation—just as the Framers envisioned they would. Through Civil War, the fight for universal suffrage, and the heroic non-violent resistance of the Civil Rights Movement—from Seneca Falls to Selma and countless acts of civic bravery beyond—courageous Americans have fought, sacrificed, and changed hearts and minds to deliver the full breadth of human dignity to which our Constitution aspires. Fully realizing these ideals and attaining justice for all remains an urgent and enduring imperative.

Today, we are in the midst of grave attempts to suppress and subvert the right to vote in free and fair elections—the most sacred right in our democracy and the very heart of our Constitution. We must continue to rebuff these threats to ensure that American democracy remains healthy and strong. My Administration is pursuing an all-of-government effort to protect and expand the fundamental right to vote and make our democracy more equitable and accessible for all Americans.

I have often said that America is the only Nation founded on an idea. Though we have never fully lived up to it, we have never walked away from it. We have never stopped striving to fulfill the founding promise of our Nation—that all of us are created equal and deserve to be treated equally throughout our lives. My Administration is committed to bringing us closer to the fulfillment of that promise.

To honor the timeless principles enshrined in our Constitution, the Congress has, by joint resolution of February 29, 1952 (36 U.S.C. 106), designated September 17 as “Constitution Day and Citizenship Day” and authorized the President to issue a proclamation calling on United States officials to display the flag of the United States on all Government buildings on that day. By joint resolution of August 2, 1956 (36 U.S.C. 108), the Congress further requested that the President proclaim the week beginning September 17 and ending September 23 of each year as “Constitution Week.”

NOW, THEREFORE, I, JOSEPH R. BIDEN JR., President of the United States of America, by virtue of the authority vested in me by the Constitution and the laws of the United States, do hereby proclaim September 17, 2021, as Constitution Day and Citizenship Day, and September 17, 2021, through September 23, 2021, as Constitution Week. On this day and during this week, we celebrate our Constitution and the rights of citizenship that together we enjoy as the people of this proud Nation.

IN WITNESS WHEREOF, I have hereunto set my hand this sixteenth day of September, in the year of our Lord two thousand twenty-one, and of the Independence of the United States of America the two hundred and forty-sixth.

[FR Doc. 2021-20506

Filed 9-20-21; 8:45 am]

Billing code 3295-F1-P